SECURITIES AND EXCHANGE COMMISSION

Sunshine Act Meeting

Federal Register Citation of Previous Announcement [74 FR 36281, July 22, 2009]

Status: Closed Meeting.

Place: 100 F Street, NE., Washington, DC.

Date and Time of Previously Announced Meeting: Friday, July 24, 2009 at 8 a.m.

Change in the Meeting: Time Change.

The Closed Meeting scheduled for Friday, July 24, 2009 at 8 a.m. has been changed to Friday, July 24, 2009 at 9 a.m.

At times, changes in Commission priorities require alterations in the scheduling of meeting items. For further information and to ascertain what, if any, matters have been added, deleted or postponed, please contact the Office of the Secretary at (202) 551-5400.

Dated: July 23, 2009.
Elizabeth M. Murphy,
Secretary.

[FR Doc. E9-17989 Filed 7-28-09; 8:45 am]

BILLING CODE 8010-01-P